DEPARTMENT OF COMMERCE

Foreign-Trade Zones Board

[B-80-2017]

Foreign-Trade Zone 154—Baton Rouge, Louisiana; Expansion of Subzone 154C; Westlake Chemical Corporation; Geismar, Louisiana

An application has been submitted to the Foreign-Trade Zones (FTZ) Board by the Greater Baton Rouge Port Commission, grantee of FTZ 154, requesting an expansion of Subzone 154C on behalf of Westlake Chemical Corporation. The application was submitted pursuant to the provisions of the Foreign-Trade Zones Act, as amended (19 U.S.C. 81a-81u), and the regulations of the FTZ Board (15 CFR part 400). It was formally docketed on December 18, 2017.

Subzone 154C was approved on August 11, 2016 (S-75-2016, 81 FR 84789, August 17, 2016) subject to FTZ 154's 2,000-acre activation limit. The subzone currently consists of one site (185 acres) located at 36045 Highway 30 in Geismar and includes four pipelines totaling 4.9 miles in length.

The applicant is requesting authority to expand the subzone to include an additional site: Proposed Site 2 (853 acres)—Plaquemine Plant, 26100 Highway 405, Plaquemine (Iberville Parish). The proposed site would include three pipelines totaling 25 miles. The applicant is further requesting that the expanded subzone (proposed site and existing site) not be subject to FTZ 154's 2,000-acre activation limit. No authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is January 31, 2018. Rebuttal comments in response to material submitted during the foregoing period may be submitted during the subsequent 15-day period to February 15, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: December 18, 2017.
Andrew McGilvray,
Executive Secretary.

[FR Doc. 2017-27612 Filed 12-21-17; 8:45 am]

BILLING CODE 3510-DS-P